DEPARTMENT OF ENERGY

Federal Energy Regulatory Commission

[Project No. 2000-089]

New York Power Authority; Notice of Application Accepted for Filing and Soliciting Comments, Motions To Intervene, and Protests

Take notice that the following hydroelectric application has been filed with the Commission and is available for public inspection:

a. Application Type: Amended Shoreline Stabilization Plan—Article 401.

b. Project No: 2000-089.

c. Date Filed: April 19, 2022.

d. Applicant: New York Power Authority.

e. Name of Project: St. Lawrence—FDR Hydroelectric Project.

f. Location: The project is located on the St Lawrence River, near the cities of Cornwall and Massena, in St. Lawrence County, New York. The project does not occupy Federal lands.

g. Filed Pursuant to: Federal Power Act, 16 U.S.C. 791a-825r.

h. Applicant Contact: Robert Knowlton, 123 Main Street, White Plains, New York, (914) 681-6426, robert.knowlton@nypa.gov.

i. FERC Contact: Margaret Noonan, (202) 502-8971, Margaret.Noonan@ferc.gov.

j. Deadline for filing comments, motions to intervene, and protests: 30 days from the date of notice issuance.

The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include the docket number P-2000-089. Comments emailed to Commission staff are not considered part of the Commission record.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of Request: The applicant proposes to amend their 2004 Shoreline Stabilization Plan (Original Plan) such that, in part, Whitehouse Bay (site 12) becomes the final stabilization site. No further work will be performed on the sites identified in the Original Plan, and the licensee will have met its obligations under the Shoreline Stabilization Program section of Article 401. The licensee states that after the approval of the Original Plan, agencies found that erosion in areas not adjacent to human occupation is natural, and so denied authorization to perform shoreline stabilization on some sites. The licensee completed stabilization for sites 10, 13-19, 21-26, 33, and 1D; and cancelled stabilization for sites 11, 20, 27-32, 34-36, 2D, 3D, and 25D.

The licensee will fund the continuation of the Adjoining Landowner Stabilization Program (ALSP) using the balance of $1.75 million, minus the costs of completing stabilization of site 12. This money may be expended on ALSP sites without restriction to timing. These funds will cover design, permitting, construction, and construction management costs of ALSP sites that are implemented by the licensee. There will be no restrictions on ALSP projects in terms of estimated cost or length or any other such restriction. The licensee will continue to perform ALSP work until the balance of the $1.75 million is expended. Thereafter, the licensee's obligation to fund the ALSP expires.

l. Locations of the Application: This filing may be viewed on the Commission's website at http://www.ferc.gov using the “eLibrary” link. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. Agencies may obtain copies of the application directly from the applicant.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

o. Filing and Service of Documents: Any filing must (1) bear in all capital letters the title “COMMENTS”, “PROTEST”, or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

Dated: February 21, 2023.
Kimberly D. Bose,
Secretary.

[FR Doc. 2023-04007 Filed 2-27-23; 8:45 am]

BILLING CODE 6717-01-P